DEPARTMENT OF COMMERCE

International Trade Administration

[A-570-088]

Steel Racks and Parts Thereof From the People's Republic of China: Preliminary Determination of Sales at Less Than Fair Value

AGENCY: Enforcement and Compliance, International Trade Administration, Department of Commerce.

SUMMARY: The Department of Commerce (Commerce) preliminarily determines that steel racks and parts thereof (steel racks) from the People's Republic of China (China) are being, or are likely to be, sold in the United States at less than fair value (LTFV) for the period of investigation (POI) October 1, 2017, through March 31, 2018.

DATES: Applicable March 4, 2019.

FOR FURTHER INFORMATION CONTACT: Patrick O'Connor or Maliha Khan, AD/CVD Operations, Office IV, Enforcement and Compliance, International Trade Administration, U.S. Department of Commerce, 1401 Constitution Avenue NW, Washington, DC 20230; telephone: (202) 482-0989 or (202) 482-0895, respectively.

SUPPLEMENTARY INFORMATION:

Background

This preliminary determination is made in accordance with section 733(b) of the Tariff Act of 1930, as amended (the Act). Commerce published the notice of initiation of this investigation on July 17, 2018.¹ On October 24, 2018, Commerce postponed the preliminary determination of this investigation until January 19, 2019.² Commerce exercised its discretion to toll all deadlines affected by the partial federal government closure from December 22, 2018, through the resumption of operations on January 29, 2019.³ If the new deadline falls on a non-business day, in accordance with Commerce's practice, the deadline will become the next business day. The revised deadline for the preliminary determination is now February 25, 2019. For a complete description of the events that followed the initiation of this investigation, see the Preliminary Decision Memorandum.⁴ A list of topics included in the Preliminary Decision Memorandum is included as Appendix II to this notice.

¹ See Steel Racks from the People's Republic of China: Initiation of Less-Than-Fair-Value Investigation, 83 FR 33195 (July 17, 2018) (Initiation Notice).

² See Steel Racks and Parts Thereof from the People's Republic of China: Postponement of Preliminary Determination in the Less-Than-Fair-Value Investigation, 83 FR 53606 (October 24, 2018).

³ See memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

⁴ See Memorandum, “Steel Racks from the People's Republic of China: Decision Memorandum for the Preliminary Determination of Sales at Less Than Fair Value” dated concurrently with, and hereby adopted by, this notice (Preliminary Decision Memorandum).

The Preliminary Decision Memorandum is a public document and is on file electronically via Enforcement and Compliance's Antidumping and Countervailing Duty Centralized Electronic Service System (ACCESS). ACCESS is available to registered users at https://access.trade.gov, and to all parties in the Central Records Unit, Room B8024 of the main Department of Commerce building. In addition, a complete version of the Preliminary Decision Memorandum can be accessed directly at http://enforcement.trade.gov/frn/. The signed and the electronic versions of the Preliminary Decision Memorandum are identical in content.

Scope of the Investigation

The products covered by this investigation are steel racks from China. For a complete description of the scope of this investigation, see Appendix I.

Scope Comments

In accordance with the preamble to Commerce's regulations,⁵ the Initiation Notice set aside a period of time for parties to raise issues regarding product coverage (scope).⁶ Certain interested parties commented on the scope of the investigation as it appeared in the Initiation Notice, as well as additional language proposed by the petitioner. For a summary of the product coverage comments and rebuttal responses submitted to the record of this investigation, and accompanying discussion and analysis of comments timely received, see Scope Decision Memorandum.⁷ Based on comments and rebuttal comments received, Commerce is preliminarily modifying the scope language as it appeared in the Initiation Notice. See the revised scope in Appendix I to this notice.

⁵ See Antidumping Duties; Countervailing Duties, Final Rule, 62 FR 27296, 27323 (May 19, 1997).

⁶ See Initiation Notice.

⁷ See Memorandum, “Steel Racks from the People's Republic of China: Preliminary Scope Decision” (Scope Decision Memorandum), dated concurrently with this preliminary determination.

Methodology

Commerce is conducting this investigation in accordance with section 731 of the Act. Commerce has calculated export prices in accordance with section 772(a) of the Act. Because China is a non-market economy country within the meaning of section 771(18) of the Act, Commerce has calculated normal value (NV) in accordance with section 773(c) of the Act. Furthermore, pursuant to sections 776(a) and (b) of the Act, Commerce preliminarily has relied upon facts otherwise available, with adverse inferences, for the China-wide entity, which includes Jiangsu Kingmore Storage Equipment Manufacturing Co., Ltd., Nanjing Huade Storage Equipment Manufacturing Co., Ltd., Nanjing Inform Storage Equipment (Group) Co., Ltd., Tangshan Apollo Energy Equipment Company, Ltd., Xiamen PDF Co., Ltd. and Zhangzhou URB Fabricating Co., Ltd. For a full description of the methodology underlying Commerce's preliminary determination, see the Preliminary Decision Memorandum.

For a full description of the methodology underlying our conclusions, see the Preliminary Decision Memorandum.

Combination Rates

In the Initiation Notice,⁸ Commerce stated that it would calculate producer/exporter combination rates for the respondents that are eligible for a separate rate in this investigation. Policy Bulletin 05.1 describes this practice.⁹

⁸ See Initiation Notice.

⁹ See Enforcement and Compliance's Policy Bulletin No. 05.1, regarding, “Separate-Rates Practice and Application of Combination Rates in Antidumping Investigations involving Non-Market Economy Countries,” (April 5, 2005) (Policy Bulletin 05.1), available on Commerce's website at http://enforcement.trade.gov/policy/bull05-1.pdf.

Preliminary Determination

Commerce preliminarily determines that the following estimated weighted-average dumping margins exist:

Exporter | Producer | Estimated weighted- average dumping margin (percent)
Nanjing Dongsheng Shelf Manufacturing Co., Ltd | Nanjing Dongsheng Shelf Manufacturing Co., Ltd | 18.08
Ateel Display Industries (Xiamen) Co., Ltd | Ateel Display Industries (Xiamen) Co., Ltd | 18.08
CTC Universal (Zhangzhou) Industrial Co., Ltd | CTC Universal (Zhangzhou) Industrial Co., Ltd | 18.08
David Metal Craft Manufactory Ltd | David Metal Craft Manufactory Ltd | 18.08
Guangdong Wireking Housewares and Hardware Co., Ltd | Guangdong Wireking Housewares and Hardware Co., Ltd | 18.08
Hebei Minmetals Co., Ltd | Hebei Wuxin Garden Products Co., Ltd | 18.08
Hebei Minmetals Co., Ltd | Huanghua Xinxing Furniture Co., Ltd | 18.08
Hebei Minmetals Co., Ltd | Huanghua Xingyu Hardware Products Co., Ltd | 18.08
Hebei Minmetals Co., Ltd | Huangua Qingxin Hardware Products Co., Ltd | 18.08
Hebei Minmetals Co., Ltd | Huangua Haixin Hardware Products Co., Ltd | 18.08
Hebei Minmetals Co., Ltd | Huanghua Hualing Hardware Products Co., Ltd | 18.08
i-Lift Equipment Ltd | Yuanda Storage Equipment Ltd | 18.08
Jiangsu Nova Intelligent Logistics Equipment Co., Ltd | Jiangsu Nova Intelligent Logistics Equipment Co., Ltd | 18.08
Johnson (Suzhou) Metal Products Co., Ltd | Johnson (Suzhou) Metal Products Co., Ltd | 18.08
Master Trust (Xiamen) Import and Export Co., Ltd | Zhangzhou Hongcheng Hardware & Plastic Industry Co., Ltd | 18.08
Nanjing Ironstone Storage Equipment Co., Ltd | Jiangsu Baigeng Logistics Equipments Co., Ltd | 18.08
Nanjing Kingmore Logistics Equipment Manufacturing Co., Ltd | Nanjing Kingmore Logistics Equipment Manufacturing Co., Ltd | 18.08
Nanjing Kingmore Logistics Equipment Manufacturing Co., Ltd | Jiangsu Kingmore Storage Equipment Manufacturing Co., Ltd | 18.08
Ningbo Beilun Songyi Warehouse Equipment Manufacturing Co., Ltd | Ningbo Beilun Songyi Warehouse Equipment Manufacturing Co., Ltd | 18.08
Ningbo Xinguang Rack Co., Ltd | Ningbo Xinguang Rack Co., Ltd | 18.08
Qingdao Rockstone Logistics Appliance Co., Ltd | Qingdao Rockstone Logistics Appliance Co., Ltd | 18.08
Redman Corporation | Redman Corporation | 18.08
Redman Import & Export Limited | Redman Corporation | 18.08
Suzhou (China) Sunshine Hardware & Equipment Imp. & Exp. Co. Ltd | Changzhou Tianyue Storage Equipment Co., Ltd | 18.08
Suzhou (China) Sunshine Hardware & Equipment Imp. & Exp. Co. Ltd | Ningbo Beilun Songyi Warehouse Equipment Manufacturing Co., Ltd | 18.08
Tianjin Master Logistics Equipment Co., Ltd | Tianjin Master Logistics Equipment Co., Ltd | 18.08
Waken Display System Co., Ltd | CTC Universal (Zhangzhou) Industrial Co., Ltd | 18.08
Xiamen Aifeimetal Manufacturing Co., Ltd | Xiamen Aifeimetal Manufacturing Co., Ltd | 18.08
Xiamen Baihuide Manufacturing Co., Ltd | Xiamen Baihuide Manufacturing Co., Ltd | 18.08
Xiamen Ever Glory Fixtures Co., Ltd | Fujian First Industry and Trade Co., Ltd | 18.08
Xiamen Ever Glory Fixtures Co., Ltd | Fujian Ever Glory Fixtures Co., LTD | 18.08
Xiamen Ever Glory Fixtures Co., Ltd | Xiamen Ever Glory Fixtures Co., Ltd | 18.08
Xiamen Golden Trust Industry & Trade Co., Ltd | Xiamen Golden Trust Industry & Trade Co., Ltd | 18.08
Xiamen Kingfull Imp and Exp Co., Ltd (d.b.a) Xiamen Kingfull Displays Co., Ltd | Xiamen Huiyi Beauty Furniture Co., Ltd | 18.08
Xiamen Kingfull Imp and Exp Co., Ltd (d.b.a) Xiamen Kingfull Displays Co., Ltd | Xiamen LianHong Industry and Trade Co., Ltd | 18.08
Xiamen LianHong Industry and Trade Co., Ltd | Xiamen LianHong Industry and Trade Co., Ltd | 18.08
Xiamen Luckyroc Industry Co., Ltd | Xiamen Luckyroc Storage Equipment Manufacture Co., Ltd | 18.08
Xiamen Meitoushan Metal Product Co., Ltd | Xiamen Meitoushan Metal Product Co., Ltd | 18.08
Xiamen Power Metal Display Co., Ltd | Xiamen Power Metal Display Co., Ltd | 18.08
Xiamen XinHuiYuan Industrial & Trade Co., Ltd | Xiamen XinHuiYuan Industrial & Trade Co., Ltd | 18.08
Xiamen Yiree Display Fixtures Co., Ltd | Xiamen Yiree Display Fixtures Co., Ltd | 18.08
Zhangjiagang Better Display Co., Ltd | Zhangjiagang Better Display Co., Ltd | 18.08
China-wide Entity |  | 144.50

Suspension of Liquidation

In accordance with section 733(d)(2) of the Act, Commerce will direct U.S. Customs and Border Protection (CBP) to suspend liquidation of subject merchandise as described in the scope of the investigation section entered, or withdrawn from warehouse, for consumption on or after the date of publication of this notice in the Federal Register, as discussed below. Further, pursuant to section 733(d)(1)(B) of the Act and 19 CFR 351.205(d), Commerce will instruct CBP to require a cash deposit equal to the weighted average amount by which normal value exceeds U.S. price, as indicated in the table above as follows: (1) For the producer/exporter combinations listed in the table above, the cash deposit rate is equal to the estimated weighted-average dumping margin listed for that combination in the table; (2) for all combinations of China producers/exporters of merchandise under consideration that have not established eligibility for their own separate rates, the cash deposit rate will be equal to the estimated weighted-average dumping margin established for the China-wide entity; and (3) for all third-county exporters of the merchandise under consideration not listed in the table above, the cash deposit rate is the cash deposit rate applicable to the China producer/exporter combination (or the China-wide entity) that supplied that third-country exporter.

To determine the cash deposit rate, Commerce normally adjusts the estimated weighted-average dumping margin by the amount of domestic subsidy pass-through and export subsidies determined in a companion CVD proceeding when CVD provisional measures are in effect. However, Commerce has not made a preliminary affirmative determination for a domestic subsidy pass-through adjustment in this AD investigation, nor has it found export subsidies in the companion CVD investigation. Therefore, Commerce made no offsets to the estimated weighted-average dumping margin for purposes of calculating the appropriate cash deposit rate.

These suspension of liquidation instructions will remain in effect until further notice.

Disclosure

Commerce intends to disclose to interested parties the calculations performed in connection with this preliminary determination within five days of its public announcement or, if there is no public announcement, within five days of the date of publication of this notice in accordance with 19 CFR 351.224(b).

Verification

As provided in section 782(i)(1) of the Act, Commerce intends to verify information relied upon in making its final determination.

Public Comment

Case briefs or other written comments, on all issues other than scope issues, may be submitted to the Assistant Secretary for Enforcement and Compliance no later than seven days after the date on which the last final verification report is issued in this investigation, unless the Secretary alters the time limit. Rebuttal case briefs, limited to issues raised in case briefs, may be submitted no later than five days after the deadline date for case briefs.¹⁰

¹⁰ See 19 CFR 351.309; see also 19 CFR 351.303 (for general filing requirements).

Interested parties may address Commerce's preliminary scope determination in scope briefs which may be submitted to the Assistant Secretary for Enforcement and Compliance no later than 30 days after the publication of the preliminary AD determination in the Federal Register. Rebuttal scope briefs, limited to issues raised in scope briefs, may be submitted no later than five days after the deadline date for scope briefs. Pursuant to 19 CFR 351.309(c)(2) and (d)(2), parties who submit briefs or rebuttal briefs in this investigation are encouraged to submit with each argument: (1) A statement of the issue; (2) a brief summary of the argument; and (3) a table of authorities.

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, Commerce intends to hold the hearing at the U.S. Department of Commerce, 1401 Constitution Avenue NW, Washington, DC 20230, at a time and date to be determined. Parties should confirm by telephone the date, time, and location of the hearing two days before the scheduled date.

Postponement of Final Determination and Extension of Provisional Measures

Section 735(a)(2) of the Act provides that a final determination may be postponed until not later than 135 days after the date of the publication of the preliminary determination if, in the event of an affirmative preliminary determination, a request for such postponement is made by exporters who account for a significant proportion of exports of the subject merchandise, or in the event of a negative preliminary determination, a request for such postponement is made by the petitioner. Pursuant to 19 CFR 351.210(e)(2), Commerce requires that requests by respondents for postponement of a final antidumping determination be accompanied by a request for extension of provisional measures from a four-month period to a period not more than six months in duration.

On December 10, 2018, pursuant to 19 CFR 351.210(b)(2)(ii) and e(2), Nanjing Dongsheng requested that Commerce postpone the final determination, and that provisional measures be extended to a period not to exceed six months.¹¹ In accordance with section 735(a)(2)(A) of the Act and 19 CFR 351.210(b)(2)(ii) and (e)(2), because (1) the preliminary determination is affirmative; (2) the requesting exporter accounts for a significant proportion of exports of the subject merchandise; and (3) no compelling reasons for denial exist, Commerce is postponing the final determination and extending the provisional measures from a four-month period to a period not greater than six months. Accordingly, Commerce will make the final determination no later than 135 days after the date of publication of this preliminary determination, pursuant to section 735(a)(2) of the Act.¹²

¹¹ See Letter from Dongsheng, “Steel Racks from the People's Republic of China—Request for Extension of Final Determination and Provisional Measures,” dated December 10, 2018, (“Dongsheng Extension Request”).

¹² See 19 CFR 351.210(e).

International Trade Commission Notification

In accordance with section 733(f) of the Act, Commerce will notify the International Trade Commission (ITC) of its preliminary determination of sales at LTFV. If the final determination is affirmative, the ITC will determine before the later of 120 days after the date of this preliminary determination or 45 days after the final determination whether imports of the subject merchandise are materially injuring, or threaten material injury to, the U.S. industry.

Notification to Interested Parties

This determination is issued and published in accordance with sections 733(f) and 777(i)(1) of the Act and 19 CFR 351.205(c).

Dated: February 25, 2019.
Gary Taverman,
Deputy Assistant Secretary for Antidumping and Countervailing Duty Operations, performing the non-exclusive functions and duties of the Assistant Secretary for Enforcement and Compliance.

Appendix I—Scope of the Investigation

The merchandise covered by this investigation is steel racks and parts thereof, assembled, to any extent, or unassembled, including but not limited to, vertical components (e.g., uprights, posts, or columns), horizontal or diagonal components (e.g., arms or beams), braces, frames, locking devices (e.g., end plates and beam connectors), and accessories (including, but not limited to, rails, skid channels, skid rails, drum/coil beds, fork clearance bars, pallet supports, row spacers, and wall ties).

Subject steel racks and parts thereof are made of steel, including, but not limited to, cold and/or hot-formed steel, regardless of the type of steel used to produce the components and may, or may not, include locking tabs, slots, or bolted, clamped, or welded connections. Subject steel racks have the following physical characteristics:

(1) Each steel vertical and horizontal load bearing member (e.g., arms, beams, posts, and columns) is composed of steel that is at least 0.044 inches thick;

(2) Each steel vertical and horizontal load bearing member (e.g., arms, beams, posts, and columns) is composed of steel that has a yield strength equal to or greater than 36,000 pounds per square inch;

(3) The width of each steel vertical load bearing member (e.g., posts and columns) exceeds two inches; and

(4) The overall depth of each steel roll-formed horizontal load bearing member (e.g., beams) exceeds two inches.

In the case of steel horizontal load bearing members other than roll-formed (e.g., structural beams, Z-beams, or cantilever arms), only the criteria in subparagraphs (1) and (2) apply to these horizontal load bearing members. The depth limitation in subparagraph (4) does not apply to steel horizontal load bearing members that are not roll-formed.

Steel rack components can be assembled into structures of various dimensions and configurations by welding, bolting, clipping, or with the use of devices such as clips, end plates, and beam connectors, including, but not limited to the following configurations: (1) Racks with upright frames perpendicular to the aisles that are independently adjustable, with positive-locking beams parallel to the aisle spanning the upright frames with braces; and (2) cantilever racks with vertical components parallel to the aisle and cantilever beams or arms connected to the vertical components perpendicular to the aisle. Steel racks may be referred to as pallet racks, storage racks, stacker racks, retail racks, pick modules, selective racks, or cantilever racks and may incorporate moving components and be referred to as pallet-flow racks, carton-flow racks, push-back racks, movable-shelf racks, drive-in racks, and drive-through racks. While steel racks may be made to ANSI MH16.l or ANSI MH16.3 standards, all steel racks and parts thereof meeting the description set out herein are covered by the scope of this investigation, whether or not produced according to a particular standard.

The scope includes all steel racks and parts thereof meeting the description above, regardless of

(1) other dimensions, weight, or load rating;

(2) vertical components or frame type (including structural, roll-form, or other);

(3) horizontal support or beam/brace type (including but not limited to structural, roll-form, slotted, unslotted, Z-beam, C-beam, L-beam, step beam, and cantilever beam);

(4) number of supports;

(5) number of levels;

(6) surface coating, if any (including but not limited to paint, epoxy, powder coating, zinc, or other metallic coatings);

(7) rack shape (including but not limited to rectangular, square, corner, and cantilever);

(8) the method by which the vertical and horizontal supports connect (including but not limited to locking tabs or slots, bolting, clamping, and welding); and

(9) whether or not the steel rack has moving components (including but not limited to rails, wheels, rollers, tracks, channels, carts, and conveyors).

Subject merchandise includes merchandise matching the above description that has been finished or packaged in a third country. Finishing includes, but is not limited to, coating, painting, or assembly, including attaching the merchandise to another product, or any other finishing or assembly operation that would not remove the merchandise from the scope of the investigation if performed in the country of manufacture of the steel racks and parts thereof. Packaging includes packaging the merchandise with or without another product or any other packaging operation that would not remove the merchandise from the scope of the investigation if performed in the country of manufacture of the steel racks and parts thereof.

Steel racks and parts thereof are included in the scope of this investigation whether or not imported attached to, or included with, other parts or accessories such as wire decking, nuts, and bolts. If steel racks and parts thereof are imported attached to, or included with, such non-subject merchandise, only the steel racks and parts thereof are included in the scope.

The scope of this investigation does not cover: (1) Decks, i.e., shelving that sits on or fits into the horizontal supports to provide the horizontal storage surface of the steel racks; (2) wire shelving units, i.e., units made from wire that incorporate both a wire deck and wire horizontal supports (taking the place of the horizontal beams and braces) into a single piece with tubular collars that slide over the posts and onto plastic sleeves snapped on the posts to create a finished unit; (3) pins, nuts, bolts, washers, and clips used as connecting devices; and (4) non-steel components.

Specifically excluded from the scope of this investigation are any products covered by Commerce's existing antidumping and countervailing duty orders on boltless steel shelving units prepackaged for sale from the People's Republic of China. See Boltless Steel Shelving Units Prepackaged for Sale From the People's Republic of China: Antidumping Duty Order, 80 FR 63,741 (October 21, 2017); Boltless Steel Shelving Units Prepackaged for Sale From the People's Republic of China: Amended Final Affirmative Countervailing Duty Determination and Countervailing Duty Order, 80 FR 63,745 (October 21, 2017).

Also excluded from the scope of this investigation are bulk-packed parts or components of boltless steel shelving units that were specifically excluded from the scope of the Boltless Steel Shelving Orders because such bulk-packed parts or components do not contain the steel vertical supports (i.e., uprights and posts) and steel horizontal supports (i.e., beams, braces) packaged together for assembly into a completed boltless steel shelving unit.

Such excluded components of boltless steel shelving are defined as:

(1) Boltless horizontal supports (beams, braces) that have each of the following characteristics: (a) A length of 95 inches or less, (b) made from steel that has a thickness of 0.068 inches or less, and (c) a weight capacity that does not exceed 2500 lbs per pair of beams for beams that are 78” or shorter, a weight capacity that does not exceed 2200 lbs per pair of beams for beams that are over 78” long but not longer than 90”, and/or a weight capacity that does not exceed 1800 lbs per pair of beams for beams that are longer than 90”;

(2) shelf supports that mate with the aforementioned horizontal supports; and

(3) boltless vertical supports (upright welded frames and posts) that have each of the following characteristics: (a) A length of 95 inches or less, (b) with no face that exceeds 2.90 inches wide, and (c) made from steel that has a thickness of 0.065 inches or less.

Excluded from the scope of this investigation are: (1) Wall-mounted shelving and racks, defined as shelving and racks that suspend all of the load from the wall, and do not stand on, or transfer load to, the floor; (2) ceiling-mounted shelving and racks, defined as shelving and racks that suspend all of the load from the ceiling and do not stand on, or transfer load to, the floor; and (3) wall/ceiling mounted shelving and racks, defined as shelving and racks that suspend the load from the ceiling and the wall and do not stand on, or transfer load to, the floor. The addition of a wall or ceiling bracket or other device to attach otherwise subject merchandise to a wall or ceiling does not meet the terms of this exclusion.

Also excluded from the scope of this investigation is scaffolding that complies with ANSI/ASSE A10.8—2011—Scaffolding Safety Requirements, CAN/CSA S269.2-M87 (Reaffirmed 2003)—Access Scaffolding for Construction Purposes, and/or Occupational Safety and Health Administration regulations at 29 CFR part 1926 subpart L—Scaffolds.

Also excluded from the scope of this investigation are tubular racks such as garment racks and drying racks, i.e., racks in which the load bearing vertical and horizontal steel members consist solely of: (1) Round tubes that are no more than two inches in diameter; (2) round rods that are no more than two inches in diameter; (3) other tubular shapes that have both an overall height of no more than two inches and an overall width of no more than two inches; and/or (4) wire.

Also excluded from the scope of this investigation are portable tier racks. Portable tier racks must meet each of the following criteria to qualify for this exclusion:

(1) They are freestanding, portable assemblies with a fully welded base and four freely inserted and easily removable corner posts;

(2) They are assembled without the use of bolts, braces, anchors, brackets, clips, attachments, or connectors;

(3) One assembly may be stacked on top of another without applying any additional load to the product being stored on each assembly, but individual portable tier racks are not securely attached to one another to provide interaction or interdependence; and

(4) The assemblies have no mechanism (e.g., a welded foot plate with bolt holes) for anchoring the assembly to the ground.

Also excluded from the scope of this investigation are accessories that are independently bolted to the floor and not attached to the rack system itself, i.e., column protectors, corner guards, bollards, and end row and end of aisle protectors.

Merchandise covered by this investigation is currently classified in the Harmonized Tariff Schedule of the United States (HTSUS) under the following subheadings: 7326.90.8688, 9403.20.0080, and 9403.90.8041. Subject merchandise may also enter under subheadings 7308.90.3000, 7308.90.6000, 7308.90.9590, and 9403.20.0090. The HTSUS subheadings are provided for convenience and U.S. Customs purposes only. The written description of the scope is dispositive.

Appendix II—List of Topics Discussed in the Preliminary Decision Memorandum

I. Summary

II. Background

III. Period of Investigation

IV. Postponement of Final Determination and Extension of Provisional Measures

V. Scope Comments

VI. Scope of the Investigation

VII. Selection of Respondents

VIII. Discussion of the Methodology

A. Non-Market Economy Country

B. Surrogate Country and Surrogate Value Comments

C. Separate Rates

D. Dumping Margin for the Separate Rate Companies Not Individually Examined

E. Combination Rates

F. The China-Wide Entity

G. Application of Facts Available and Adverse Inferences

H. Date of Sale

I. Fair Value Comparisons

J. Export Price

K. Normal Value

L. Factor Valuation Methodology

IX. Currency Conversion

X. Adjustment Under Section 777A(f) of the Act

XI. Adjustment for Countervailable Export Subsidies

XII. Verification

XIII. Conclusion

[FR Doc. 2019-03820 Filed 3-1-19; 8:45 am]

BILLING CODE 3510-DS-P